DEPARTMENT OF DEFENSE

Defense Logistics Agency

[DOD-2006-OS-0075]

Privacy Act of 1974; Systems of Records

AGENCY: Defense Logistics Agency, DOD.

ACTION: Notice to alter a system of records.

SUMMARY: The Defense Logistics Agency proposes to alter a system of records notice in its existing inventory of records systems subject to the Privacy Act of 1974, (5 U.S.C. 552a), as amended.

DATES: This proposed action will be effective without further notice on June 5, 2006 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency systems of records notices subject to the Privacy Act of 1974, (5 U.S.C. 552a), as amended, have been published in the Federal Register and are available from the address above.

The proposed system reports, as required by 5 U.S.C. 552a(r), of the Privacy Act of 1974, as amended, were submitted on April 28, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 1, 2006.
L.M. Bynum,
OSD Federal Register Liaison Officer, Department of Defense.

S330.10

System name:

Alternative Workplace Program Records (August 24, 2004, 69 FR 52001).

Changes:

* * * * *

System name:

Delete entry and replace with: “DLA Telework Program Records”.

* * * * *

Categories of individuals covered by the system:

Delete entry and replace with: “Individuals who have been granted and/or denied participation in the DLA Telework Program”.

Categories of records in the system:

Delete entry and replace with: “Records include individual's name; position title, grade, and job series; last performance evaluation rating; duty station address and telephone number; approved alternative worksite address, telephone number(s), telephone installation and local fees (if applicable); Telework requested forms (Telework Request and Approval Form, Telework Agreement, Self-Certification Home Safety Checklist, and Supervisor-Employee Checklist); approvals/disapprovals; home safety reports; description of government owned equipment and software provided to the Teleworker; and the digital identifier of the individual used to authenticate document approvals.”

Authority for maintenance of the system:

Delete entry and replace with: “Pub. L. 106-346, section 359, Department of Transportation and Related Agencies Appropriations Act 2001; 5 U.S.C. 6120, Telecommuting in Executive Agencies; Under Secretary of Defense for Personnel and Readiness Memorandum, Department of Defense Telework Policy and Guide for Civilian Employees, October 22, 2001; and DoD Directive 1035.1, Telework Policy for Department of Defense.”

Purpose(s):

Replace first paragraph with “Records are used by supervisors and program coordinators for managing, evaluating, and reporting DLA Telework Program activity/participation. Data on participation in the DLA Telework Program, minus personal identifiers, is provided to the DoD for a consolidated DoD response the Office of Personnel Management (OPM) Telework Survey. Portions of the files are used by Information Technology offices for determining equipment and software needs; for ensuring appropriate technical safeguards are in use at alternative work sites; and for evaluating and mitigating vulnerabilities associated with connecting the DLA computer systems from remote locations.”

Routine uses of records maintained in the system, including categories of users and the purposes of such uses:

Add a new paragraph “To the American Federation of Government Employees Council 169 to provide raw statistical data on the DLA telework program. Data to be disclosed includes number of positions designated as eligible for Telework by job title, series and grade; number of employees requesting Telework; and the number approved for Telework by the local activity. No personal identifiers or personally identifying data is provided.”

* * * * *

Notification procedure:

Delete entry and replace with: “Individuals seeking to determine whether information about themselves is contained in this system should address written inquiries to the Privacy Act Officer, Headquarters, Defense Logistics Agency, ATTN: DP, 8725 John J. Kingman Road, Stop 2533, Fort Belvoir, VA 22060-6221.”

Record access procedures:

Delete entry and replace with: “Individuals seeking access to information about themselves contained in this system should address written inquiries to the Privacy Act Officer, Headquarters, Defense Logistics Agency, ATTN: DP, 8725 John J. Kingman Road, Stop 2533, Fort Belvoir, VA 22060-6221

Individuals must supply their name and the DLA facility or activity where employed at the time they requested to participate in the DLA Telework Program.”

Contesting record procedures:

Delete entry and replace with: “The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.”

* * * * *

S330.10

System name:

DLA Telework Program Records.

System location:

Office of the Director, Human Resources, Headquarters, Defense Logistics Agency, 8725 John J. Kingman Road, Stop 6231, Fort Belvoir, VA 22060-6221, and heads of the DLA field activities. Official mailing addresses are published as an appendix to DLA's compilation of systems of records notices.

Categories of individuals covered by the system:

Individuals who have been granted and/or denied participation in the DLA Telework Program.

Categories of records in the system:

Records include individual's name; position title, grade, and job series; last performance evaluation rating; duty station address and telephone number; approved alternative worksite address, telephone number(s), telephone installation and local fees (if applicable); Telework request forms (Telework Request and Approval Form, Telework Agreement, Self-Certification Home Safety Checklist, and Supervisor-Employee Checklist); approvals/disapprovals; home safety reports; description of government owned equipment and software provided to the Teleworker; and the digital identifier of the individual used to authenticate document approvals.

Authority for maintenance of the system:

Pub. L. 106-346, section 359, Department of Transportation and Related Agencies Appropriations Act 2001; 5 U.S.C. 6120, Telecommuting in Executive Agencies; Under Secretary of Defense for Personnel and Readiness Memorandum, Department of Defense Telework Policy and Guide for Civilian Employees, October 22, 2001; and DoD Directive 1035.1, Telework Policy for Department of Defense.

Purpose(s):

Records are used by supervisors and program coordinators for managing, evaluating, and reporting DLA Telework Program activity/participation. Data on participation in the DLA Telework Program, minus personal identifiers, is provided to the DoD for a consolidated DoD response to the Office of Personnel Management (OPM) Telework Survey. Portions of the files are used by Information Technology offices for determining equipment and software needs; for ensuring appropriate technical safeguards are in use at alternative work sites; and for evaluating and mitigating vulnerabilities associated with connecting to DLA computer systems from remote locations. Portions of the files may be used by Information Security offices for determining equipment and software needs; for ensuring appropriate technical safeguards are in use at alternative work sites; and for evaluating and mitigating vulnerabilities associated with connecting to DLA computer systems from remote locations. Portions of the records may also be used by telephone control offices to validate and reimburse participants for costs associated with telephone use.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Home address, home safety checklists, and home safety reports may be disclosed to the Department of Labor when an employee is injured while working at home.

To the American Federation of Government Employees Council 169 to provide raw statistical data on the DLA telework program. Data to be disclosed includes number of positions designated as eligible for Telework by job title, series and grade; number of employees requesting Telework; and the number approved for Telework by the local activity. No personal identifiers or personally identifying data is provided.

The DoD ‘Blanket Routine Uses’ set forth at the beginning of DLA's compilation of systems of records notices apply to this system.

Policies and practices for storing, retrieving, accessing, retaining, and disposing of records in the system:

Storage:

Records are maintained in paper and electronic formats.

Retrievability:

Records are retrieved by name.

Safeguards:

Access to the database is limited to those who require the records in the performance of their official duties. Access is further restricted by the use of passwords, which are changed periodically. Physical entry is restricted by the use of locks, guards, and administrative procedures. Employees are periodically briefed on the consequences of improperly accessing restricted databases.

Retention and disposal:

Records are destroyed 1 year after employee's participation in the program ends. Unapproved requests are destroyed 1 year after the request is rejected.

System manager(s) and address:

Director, Human Resources, Headquarters, Defense Logistics Agency, 8725 John J. Kingman Road, Stop 6231, Fort Belvoir, VA 22060-6221; and the heads of DLA field activities. Official mailing addresses are published as an appendix to DLA's compilation of systems of records notices.

Notification procedure:

Individuals seeking to determine whether information about themselves is contained in this system should address written inquiries to the Privacy Act Officer, Headquarters, Defense Logistics Agency, ATTN: DP, 8725 John J. Kingman Road, Stop 2533, Fort Belvoir, VA 22060-6221.

Record access procedures:

Individuals seeking access to information about themselves contained in this system should address written inquiries to the Privacy Act Officer, Headquarters, Defense Logistics Agency, ATTN: DP, 8725 John J. Kingman Road, Stop 2533, Fort Belvoir, VA 22060-6221.

Individuals must supply their name and the DLA facility or activity where employed at the time they requested to participate in the DLA Telework Program.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

Data is supplied by participants, supervisors, and information technology offices.

Exemptions claimed for the system:

None.

[FR Doc. 06-4250 Filed 5-4-06; 8:45 am]

BILLING CODE 5001-06-M